DEPARTMENT OF THE TREASURY

Internal Revenue Service

26 CFR Part 1

[REG-146692-03]

RIN 1545-BC59

Mortgage Revenue Bonds

AGENCY: Internal Revenue Service (IRS), Treasury.

ACTION: Cancellation of notice of public hearing on proposed rulemaking.

SUMMARY: This document provides notice of cancellation of a public hearing on proposed regulations that provide guidance regarding the limitation on the effective rate of mortgage interest for purposes of mortgage revenue bonds issued by State and local governments.

DATES: The public hearing originally scheduled for Wednesday, January 28, 2004, at 10 a.m., is cancelled.

FOR FURTHER INFORMATION CONTACT: Treena Garrett of the Publications and Regulations Branch, Associate Chief Counsel (Procedure and Administration) (202) 622-7180 (not a toll-free number).

SUPPLEMENTARY INFORMATION: A notice of proposed rulemaking and notice of public hearing that appeared in the Federal Register on Wednesday, November 5, 2003 (68 FR 62549) announced that a public hearing was scheduled for Wednesday, January 28, 2004, at 10 a.m. in the Auditorium, Internal Revenue Service Building, 1111 Constitution Avenue, NW., Washington, DC. The subject of the public hearing is proposed regulations under sections 103, 141, 143 and 148 of the Internal Revenue Code. The public comment period for these proposed regulations expired on Wednesday, January 7, 2004. Outlines of oral comments were due on Wednesday, January 7, 2004.

The notice of proposed rulemaking and notice of public hearing, instructed those interested in testifying at the public hearing to submit a request to speak and an outline of the topics to be addressed. As of Thursday, January 15, 2004, no one has requested to speak. Therefore, the public hearing scheduled for Wednesday, January 28, 2004, is cancelled.

LaNita Van Dyke,
Acting Chief, Publications and Regulations Branch, Legal Processing Division, Associate Chief Counsel (Procedure and Administration).

[FR Doc. 04-1225 Filed 1-20-04; 8:45 am]

BILLING CODE 4830-01-P